DEPARTMENT OF HOMELAND SECURITY

Coast Guard

[Docket No. USCG-2007-29114]

Delaware River and Bay Oil Spill Advisory Committee; Vacancies

AGENCY: Coast Guard, DHS.

ACTION: Notice of committee establishment and request for applications.

SUMMARY: The Secretary of Homeland Security is establishing the Delaware River and Bay Oil Spill Advisory Committee (DRBOSAC) under authority of the Coast Guard and Maritime Transportation Act of 2006, Public Law 109-241. Individuals interested in serving on this committee are invited to apply for membership.

DATES: Application forms for membership should reach the Coast Guard on or before January 28, 2008.

ADDRESSES: You may request a copy of the charter for the Delaware River and Bay Oil Spill Advisory Committee or a form to apply for membership by writing to Captain David L. Scott, Designated Federal Officer (DFO) of the Delaware River and Bay Oil Spill Advisory Committee, USCG Sector Delaware Bay, 1 Washington Avenue, Philadelphia, PA 19147. Send your application in written form to the above street address. A copy of this notice, the Committee Charter, and the application form are available in our online docket, USCG-2007-29114, at http://www.regulations.gov.

FOR FURTHER INFORMATION CONTACT: Mr. Gerald Conrad, Assistant to the DFO of the Delaware River and Bay Oil Spill Advisory Committee, at 215-271-4824.

SUPPLEMENTARY INFORMATION: Establishment of the Delaware River and Bay Oil Spill Advisory Committee. The Federal Advisory Committee Act (FACA), 5 U.S.C. App. (Pub. L. 92-463), governs the establishment of committees by Federal agencies. Section 607 of the Coast Guard and Maritime Transportation Act of 2006 (Pub. L. 109-241) requires the Secretary of the Department in which the Coast Guard is operating to establish a Delaware River and Bay Oil Spill Advisory Committee. The Commandant of the Coast Guard will select the people to be on the advisory committee.

The DRBOSAC shall provide advice and recommendations and a ranking of priorities for measures to improve the prevention of, and response to, future oil spills in the Delaware River and Delaware Bay to the Commandant of the Coast Guard, the Governors of the States of New Jersey, Pennsylvania, and Delaware, the Committee on Commerce, Science and Transportation of the Senate, and the Committee on Transportation and Infrastructure of the House of Representatives.

FACA requires advisory committees to meet at least yearly. However, we anticipate that this Committee will meet more frequently. Subcommittees, if established, may also meet between meetings of the parent committee. Most meetings will be held at Coast Guard Sector Delaware Bay in Philadelphia, Pennsylvania, but some meetings may be held at nearby facilities.

Request for Applications

The Committee will be composed of 27 members who are appointed by the Commandant of the Coast Guard and who have a particular expertise, knowledge, and experience regarding the transportation, equipment, and techniques that are used to ship cargo and to navigate vessels in the Delaware River and Delaware Bay, as follows:

(A) Three members who are employed by port authorities that oversee operations on the Delaware River or have been selected to represent these port authorities, of whom—

(i) One member shall be an employee or representative of the Port of Wilmington;

(ii) One member shall be an employee or representative of the South Jersey Port Corporation;

(iii) One member shall be an employee or representative of the Philadelphia Regional Port Authority.

(B) Two members who represent organizations that operate tugs or barges that utilize the port facilities on the Delaware River and Delaware Bay.

(C) Two members who represent shipping companies that transport cargo by vessel from ports on the Delaware River and Delaware Bay, of whom at least one may not be a representative of a shipping company that transports oil or petroleum products.

(D) Two members who represent operators of oil refineries adjacent to the Delaware River and Delaware Bay.

(E) Two members who represent State-licensed pilots who work on the Delaware River and Delaware Bay.

(F) One member who represents labor organizations whose members load and unload cargo at ports on the Delaware River and Delaware Bay.

(G) One member who represents local commercial fishing interests or an aquaculture organization that depends on fisheries and resources of the Delaware River or Delaware Bay.

(H) Three members who represent environmental organizations active with respect to the Delaware River and Delaware Bay, including a watershed advocacy group and a wildlife conservation advocacy group.

(I) One member who represents an organization affiliated with recreational fishing interests in the vicinity of the Delaware River and Delaware Bay.

(J) Two members who are scientists or researchers associated with an academic institution, and who have professional credentials in fields of research relevant to oil spill safety, oil spill response, or wildlife and ecological recovery.

(K) Two members who are municipal or county officials from Delaware.

(L) Two members who are municipal or county officials from New Jersey.

(M) Two members who are municipal or county officials from Pennsylvania.

(N) One member who represents an oil spill response organization located on the lower Delaware River and Delaware Bay.

(O) One member who represents the general public.

The DRBOSAC may also consist of an appropriate number (as determined by the Commandant of the Coast Guard) of non-voting members who represent Federal agencies and the agencies of the states of New Jersey, Pennsylvania, and Delaware with an interest in oil spill prevention in the Delaware River and Delaware Bay.

The members outlined in (A) can be either Special Government Employees (SGEs) or representatives. Members who are merely employed by port authorities shall be designated as SGEs and members that represent these port authorities shall be designated as representative members.

The members in paragraphs (B), (C), (D), (E), (F), (G), (H), (I), (K), (L), (M) and (N) are representative members and not Special Government Employees as defined in section 202(a) of Title 18, United States Code.

The members in paragraphs, (J), and (O) serve as Special Government Employees as defined in section 202(a) of Title 18, United States Code.

The terms of office for members initially appointed to the committee shall expire 18 months from the date of their appointment. Applicants may be required to pass an appropriate security background check prior to appointment to the committee.

Applicants should submit their application on Form DOT F 1120.1 to Captain David L. Scott at the address given in the ADDRESSES section at the beginning of this Notice. The application form is available from Mr. Gerald Conrad by calling him at 215-271-4824, or by going to the docket for this notice [USCG-2007-29114] at http://www.regulations.gov.

While attending meetings or otherwise engaged in Committee business, members will be reimbursed for travel expenses as permitted under applicable Federal travel regulations. However, members will not receive any salary or other compensation for their service on the Committee.

In support of the policy of the U.S.C.G. on gender and ethnic diversity, we encourage qualified women and members of minority groups to apply.

If you are selected as a Special Government Employee (SGE), including a member of the general public, we will require you to complete a Confidential Financial Disclosure Report (OGE Form 450). We may not release the report or the information in it to the public, except under an order issued by a Federal court or as otherwise provided under the Privacy Act (5 U.S.C. 552a).

Dated: October 13, 2007.
David. L. Scott,
Captain, U.S. Coast Guard, Commanding Officer, Sector Delaware Bay.

[FR Doc. E7-23044 Filed 11-26-07; 8:45 am]

BILLING CODE 4910-15-P